DEPARTMENT OF STATE

[Public Notice 6858]

In the Matter of the Review of the Designation of al-Jihad AKA Egyptian Islamic Jihad AKA Egyptian al-Jihad AKA Jihad Group AKA New Jihad as a Foreign Terrorist Organization Pursuant to Section 219 of the Immigration and Nationality Act, as Amended

Based upon a review of the Administrative Record assembled in this matter pursuant to Section 219(a)(4)(C) of the Immigration and Nationality Act, as amended (8 U.S.C. 1189(a)(4)(C)) (“INA”), and in consultation with the Attorney General and the Secretary of the Treasury, I conclude that there is a sufficient factual basis to find that al-Jihad, also known as Egyptian Islamic Jihad, also known as Egyptian al-Jihad, also known as Jihad Group, also known as New Jihad, has merged with al-Qa'ida, and that the relevant circumstances described in Section 219(a)(1) of the INA still exist with respect to that organization.

Therefore, I hereby determine that the amendment of the designation of al-Jihad, and its aliases, as a foreign terrorist organization, pursuant to Section 219 of the INA (8 U.S.C. 1189), shall be maintained as a designated alias of al-Qa'ida, as provided for in 74 FR 4069 (January 22, 2009).

This determination shall be published in the Federal Register.

Dated: December 18, 2009.
James B. Steinberg,
Deputy Secretary of State.

[FR Doc. E9-30835 Filed 12-29-09; 8:45 am]

BILLING CODE 4710-10-P